COMMITTEE FOR PURCHASE FROM PEOPLE WHO ARE BLIND OR SEVERELY DISABLED

Procurement List Additions

AGENCY: Committee for Purchase From People Who Are Blind or Severely Disabled.

ACTION: Additions to the Procurement List.

SUMMARY: This action adds to the Procurement List commodities and services to be furnished by nonprofit agencies employing persons who are blind or have other severe disabilities.

EFFECTIVE DATE: August 21, 2000.

ADDRESSES: Committee for Purchase From People Who Are Blind or Severely Disabled, Jefferson Plaza 2, Suite 10800, 1421 Jefferson Davis Highway, Arlington, Virginia 22202-3259.

FOR FURTHER INFORMATION CONTACT: Louis R. Bartalot (703) 603-7740.

SUPPLEMENTARY INFORMATION: On May 5, 12 and 26 and June 2 and 9, 2000, the Committee for Purchase From People Who Are Blind or Severely Disabled published notices (65 F.R. 26178, 30562, 34145, 35319 and 36663) of proposed additions to the Procurement List.

After consideration of the material presented to it concerning capability of qualified nonprofit agencies to provide the commodities and services and impact of the additions on the current or most recent contractors, the Committee has determined that the commodities and services listed below are suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the commodities and services to the Government.

2. The action will not have a severe economic impact on current contractors for the commodities and services.

3. The action will result in authorizing small entities to furnish the commodities and services to the Government.

4. There are no known regulatory alternatives which would accomplish the objectives of the Javits-Wagner-O'Day Act (41 U.S.C. 46—48c) in connection with the commodities and services proposed for addition to the Procurement List.

Accordingly, the following commodities and services are hereby added to the Procurement List:

Commodities

American Flag

M.R. 1011

Mailers, Audio Cassette

8105-01-386-2181

8105-01-386-2189

Nonfat Dry Milk

8910-00-NSH-0001

Services

Administrative Services, General Services Administration, 100 Penn Square East, Philadelphia, Pennsylvania

Administrative Services, Office of the Provost Marshal, Building 23020, Fort Hood, Texas

Administrative/General Support Services, Chaplain's Office, Great Lakes Naval Training Center, Great Lakes, Illinois

Dispatcher Services, Federal Building 222 West 7th Avenue, Anchorage, Alaska

Grounds Maintenance, U.S. Army Reserve Center, 50 East Street, Springfield, Massachusetts

Grounds Maintenance, U.S. Army Reserve Center, AMSA 68(G), 42 Albion Road, Lincoln, Rhode Island

Janitorial/Custodial, Marine Corps Reserve Training Center, 4201 Chester Avenue, Bakersfield, California

Janitorial/Custodial, Weapons Support Facility, Seal Beach, California

Janitorial/Custodial, GSA Distribution Depot, 500 Edwards Avenue, Harahan, Louisiana

Janitorial/Custodial, U.S. Army Space & Missile Defense Command, Arlington, Virginia

Operation of Central Issue Facility, Building 9640, Fort Lewis, Washington

Operation of Self Service Supply Store, U.S. Army Space & Missile Defense Command, Arlington, Virginia

Temporary Medical Record Filing for the following locations: VA Medical Center, Nashville, Tennessee; Alvin C. York VA Medical Center, Murfreesboro, Tennessee

This action does not affect current contracts awarded prior to the effective date of this addition or options that may be exercised under those contracts.

Louis R. Bartalot,
Deputy Director (Operations).

[FR Doc. 00-18540 Filed 7-20-00; 8:45 am]

BILLING CODE 6353-01-P